DEPARTMENT OF THE INTERIOR

Bureau of Land Management

[A2407-014-004-065516, #O2509-014-004-125222]

Filing of Plats of Survey, Colorado

AGENCY: Bureau of Land Management, Interior.

ACTION: Notice of official filing.

SUMMARY: The plat of survey of the following described lands is scheduled to be officially filed in the Bureau of Land Management (BLM), Colorado State Office, Lakewood, Colorado, 30 calendar days from the date of this publication. The survey, which was executed at the request of the BLM, is necessary for the management of these lands.

DATES: You must submit written protests to the BLM Colorado State Office by February 13, 2026. Unless there are protests of this action, the plat described in this notice will be filed on February 13, 2026.

ADDRESSES: You may submit written protests to the BLM Colorado State Office, State Director, LLCO956, P.O. Box 151029, Lakewood, CO 80215. The plat of survey is available for public viewing at no cost at the BLM Colorado State Office, Denver Federal Center, Building 40, Public Room, Lakewood, Colorado, 80225.

FOR FURTHER INFORMATION CONTACT: David W. Ginther, Chief Cadastral Surveyor for Colorado, telephone: (970) 826-5064; email: dginther@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The plat and field notes of the dependent resurvey and subdivision of sections 15, 17, and 30 in Township 49 North, Range 1 West, New Mexico Principal Meridian, Colorado, were accepted on March 24, 2025.

A person or party who wishes to protest any of the above surveys must file a written notice of protest by the date specified in the DATES section and at the address listed in the ADDRESSES section of this notice. A statement of reasons for the protest may be filed with the notice of protest and must be filed within 30-calendar days after the protest is filed. If a protest against the survey is received prior to the date of official filing, the filing will be stayed pending consideration of the protest. A plat will not be officially filed until the day after all protests have been dismissed or otherwise resolved.

Before including your address, phone number, email address, or other personally identifiable information in your protest, please be aware that your entire protest, including your personally identifiable information, may be made publicly available at any time. While you can ask us in your comment to withhold your personally identifiable information from public review, we cannot guarantee that we will be able to do so.

(Authority: 43 U.S.C. Chap. 3)

David W. Ginther,
Chief Cadastral Surveyor.

[FR Doc. 2026-00567 Filed 1-13-26; 8:45 am]

BILLING CODE 4331-16-P